DEPARTMENT OF ENERGY

Federal Energy Regulatory Commission

Combined Notice of Filings #1

Take notice that the Commission received the following electric corporate filings:

Docket Numbers: EC14-133-000.

Applicants: Avalon Solar Partners, LLC.

Description: Application under Section 203 with Confidential Exhibit I of Avalon Solar Partners, LLC.

Filed Date: 9/4/14.

Accession Number: 20140904-5222.

Comments Due: 5 p.m. ET 9/25/14.

Docket Numbers: EC14-135-000.

Applicants: Calpine Fore River Energy Center, LLC, Constellation Mystic Power, LLC.

Description: Joint Application for Approval Under Section 203 of the Federal Power Act of Calpine Fore River Energy Center, LLC, et. al.

Filed Date: 9/5/14.

Accession Number: 20140905-5187.

Comments Due: 5 p.m. ET 9/26/14.

Take notice that the Commission received the following exempt wholesale generator filings:

Docket Numbers: EG14-93-000.

Applicants: Beech Ridge Energy LLC.

Description: Notice of Self-Certification of Exempt Wholesale Generator Status of Beech Ridge Energy LLC.

Filed Date: 9/8/14.

Accession Number: 20140908-5054.

Comments Due: 5 p.m. ET 9/29/14.

Docket Numbers: EG14-94-000.

Applicants: Beech Ridge Energy II LLC.

Description: Notice of Self-Certification of Exempt Wholesale Generator Status of Beech Ridge Energy II LLC.

Filed Date: 9/8/14.

Accession Number: 20140908-5055.

Comments Due: 5 p.m. ET 9/29/14.

Docket Numbers: EG14-95-000.

Applicants: Beech Ridge Energy Storage LLC.

Description: Notice of Self-Certification of Exempt Wholesale Generator Status of Beech Ridge Energy Storage LLC.

Filed Date: 9/8/14.

Accession Number: 20140908-5056.

Comments Due: 5 p.m. ET 9/29/14.

Take notice that the Commission received the following electric rate filings:

Docket Numbers: ER10-1325-002; ER12-1946-002; ER14-2323-000; ER11-2080-002; ER10-1333-002; ER14-2319-000; ER12-1958-002; ER14-2321-000; ER10-1335-002.

Applicants: CinCap V, LLC, Duke Energy Beckjord, LLC, Duke Energy Carolinas, LLC, Duke Energy Commercial Asset Management, LLC, Duke Energy Commercial Enterprises, Inc., Duke Energy Florida, Inc., Duke Energy Piketon, LLC, Duke Energy Progress, Inc., Duke Energy Retail Sales, LLC.

Description: Supplement to June 30, 2014 Triennial Market Power Analysis Update for the Southeast Region of Duke Energy Corporation MBR Sellers.

Filed Date: 9/5/14.

Accession Number: 20140905-5176.

Comments Due: 5 p.m. ET 9/26/14.

Docket Numbers: ER11-2029-004; ER12-1400-003.

Applicants: Cedar Creek II, LLC, Flat Ridge 2 Wind Energy LLC.

Description: Notification of Change in Status of Cedar Creek II, LLC, et. al.

Filed Date: 9/5/14.

Accession Number: 20140905-5189.

Comments Due: 5 p.m. ET 9/26/14.

Docket Numbers: ER12-2273-000.

Applicants: Public Service Company of Colorado.

Description: eTariff filing per 35.19a(b): 2014-9-5 Cadott, Tremplo Refund Report Filing to be effective N/A.

Filed Date: 9/5/14.

Accession Number: 20140905-5145.

Comments Due: 5 p.m. ET 9/26/14.

Docket Numbers: ER14-2107-002.

Applicants: Southwest Power Pool, Inc.

Description: Compliance filing per 35: 1148 Substitute R18 American Electric Power NITSA and NOA (Compliance Filing to be effective 5/1/2014.

Filed Date: 9/5/14.

Accession Number: 20140905-5161.

Comments Due: 5 p.m. ET 9/26/14.

Docket Numbers: ER14-2793-000.

Applicants: Imperial Valley Solar, LLC.

Description: Tariff Withdrawal per 35.15: Notice of Cancellation to be effective 9/5/2014.

Filed Date: 9/5/14.

Accession Number: 20140905-5140.

Comments Due: 5 p.m. ET 9/26/14.

Docket Numbers: ER14-2794-000.

Applicants: Green Mountain Power Corporation, ISO New England Inc.

Description: § 205(d) rate filing per 35.13(a)(2)(iii): Rev. Depreciation Rates for OATT Formula Transmission Rate and RNS Cost Calc to be effective 10/1/2014.

Filed Date: 9/8/14.

Accession Number: 20140908-5025.

Comments Due: 5 p.m. ET 9/29/14.

Docket Numbers: ER14-2795-000.

Applicants: Beech Ridge Energy LLC.

Description: Baseline eTariff Filing per 35.1: Filing of Assignment, Co-Tenancy, and Shared Facilities Agreement to be effective 9/9/2014.

Filed Date: 9/8/14.

Accession Number: 20140908-5049.

Comments Due: 5 p.m. ET 9/29/14.

Docket Numbers: ER14-2796-000.

Applicants: Beech Ridge Energy II LLC.

Description: Baseline eTariff Filing per 35.1: Filing of Assignment, Co-Tenancy, and Shared Facilities Agreement to be effective 9/9/2014.

Filed Date: 9/8/14.

Accession Number: 20140908-5050.

Comments Due: 5 p.m. ET 9/29/14.

Docket Numbers: ER14-2797-000.

Applicants: Beech Ridge Energy Storage LLC.

Description: Baseline eTariff Filing per 35.1: Filing of Assignment, Co-Tenancy, and Shared Facilities Agreement to be effective 9/9/2014.

Filed Date: 9/8/14.

Accession Number: 20140908-5051.

Comments Due: 5 p.m. ET 9/29/14.

Docket Numbers: ER14-2798-000.

Applicants: Beech Ridge Energy II LLC.

Description: Initial rate filing per 35.12 Application for Market-Based Rate Authorization to be effective 11/8/2014.

Filed Date: 9/8/14.

Accession Number: 20140908-5052.

Comments Due: 5 p.m. ET 9/29/14.

Docket Numbers: ER14-2799-000.

Applicants: Beech Ridge Energy Storage LLC.

Description: Initial rate filing per 35.12 Application for Market-Based Rate Authorization to be effective 11/8/2014.

Filed Date: 9/8/14.

Accession Number: 20140908-5053.

Comments Due: 5 p.m. ET 9/29/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 8, 2014.
Nathaniel J. Davis, Sr.,
Deputy Secretary.

[FR Doc. 2014-21975 Filed 9-15-14; 8:45 am]

BILLING CODE 6717-01-P